DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: In accordance with the Federal Advisory Committee Act, this notice announces that the National Advisory Council on Nurse Education and Practice (NACNEP) has scheduled public meetings for the 2019 calendar year (CY). Information about NACNEP, agendas, and materials for these meetings can be found on the NACNEP website at https://www.hrsa.gov/advisory-committees/nursing/index.html.

DATES: All CY 2019 NACNEP meetings will be held by teleconference and webinar:

• April 1, 2019, 8:30 a.m.-2:30 p.m. Eastern Time (ET)

• May 21, 2019, 8:30 a.m.-5:00 p.m. ET; and

• September 24, 2019, 8:30 a.m.-5:00 p.m. ET.

ADDRESSES: Meetings will be held by teleconference and/or Adobe Connect webinar. Instructions for joining the meetings remotely will be posted on the NACNEP website 30 business days before the date of the meeting. For meeting information updates, go to the NACNEP website meeting page at https://www.hrsa.gov/advisory-committees/nursing/meetings.html.

FOR FURTHER INFORMATION CONTACT: Tracy L. Gray MBA, MS, RN, Chief, Advanced Nursing Education Branch; Designated Federal Official; Bureau of Health Workforce, HRSA, 5600 Fishers Lane, Rockville, Maryland 20857; 301-945-3113 or BHWNACNEP@hrsa.gov.

SUPPLEMENTARY INFORMATION: NACNEP provides advice and recommendations to the Secretary of HHS and Congress on policy issues related to the activities carried out under Title VIII of the Public Health Service (PHS) Act, including the range of issues relating to the nurse workforce, education, and practice improvement. NACNEP also prepares and submits an annual report to the Secretary of HHS and Congress describing its activities, including NACNEP's findings and recommendations concerning activities under Title VIII, as required by the PHS Act.

For CY 2019 meetings, agenda items may include, but are not limited to, updates from experts on nursing workforce, nursing education, and nursing practice improvement. Agenda items are subject to change as priorities dictate. Refer to the NACNEP website listed above for all current and updated information concerning the CY 2019 NACNEP meetings, including topics, draft agendas, and meeting materials that will be posted at least 10 business days before the meeting. Members of the public will have the opportunity to provide comments. Public participants may submit written statements in advance of the scheduled meeting(s). Oral comments will be honored in the order they are requested and may be limited as time allows. Requests to submit a written statement or make oral comments to NACNEP should be sent to the contact information above at least five business days before the meeting date(s). Individuals who need special assistance or another reasonable accommodation should notify Tracy Gray at the address and phone number listed above at least 10 business days before the meeting(s) they wish to remotely attend. Since all in-person meetings will occur in a federal government building, attendees must go through a security check to enter the building. Non-U.S. Citizen attendees must notify HRSA of their planned attendance at least 20 business days prior to the meeting in order to facilitate their entry into the building. All attendees are required to present government-issued identification prior to entry.

Amy P. McNulty,
Acting Director, Division of the Executive Secretariat.

[FR Doc. 2019-04074 Filed 3-6-19; 8:45 am]

BILLING CODE 4165-15-P